NUCLEAR REGULATORY COMMISSION

[Docket No. 50-298]

Nebraska Public Power District; Notice of Withdrawal of Application for Amendment to Facility Operating License

The U.S. Nuclear Regulatory Commission (the Commission) has granted the request of Nebraska Public Power District (the licensee) to withdraw its June 15, 1999, application for proposed amendment to Facility Operating License No. DPR-46 for the Cooper Nuclear Station located in Nemaha County, Nebraska.

The proposed amendment would have revised the facility updated safety analysis report on the containment overpressure contribution to emergency core cooling system pump net positive suction head requirement post-loss-of-coolant accident.

The Commission had previously issued a Notice of Consideration of Issuance of Amendment published in the Federal Register on July 14, 1999 (64 FR 38031). However, by letter dated June 14, 2000, the licensee withdrew the proposed change.

For further details with respect to this action, see the application for amendment dated June 15, 1999, and the licensee's letter dated June 14, 2000 (Accession No. ML003724841), which withdrew the application for license amendment. The above documents are available for public inspection at the Commission's Public Document Room, the Gelman Building, 2120 L Street, NW., Washington, DC, and accessible electronically through the Adams Public Electronic Reading Room link at the NRC Web site (http://www.nrc.gov).

Dated at Rockville, Maryland, this 10th day of October 2000.
For the Nuclear Regulatory Commission.
Mohan C. Thadani,
Senior Project Manager, Section 1, Project Directorate IV & Decommissioning Division of Licensing Project Management, Office of Nuclear Reactor Regulation.

[FR Doc. 00-27177 Filed 10-20-00; 8:45 am]

BILLING CODE 7590-01-P